DEPARTMENT OF AGRICULTURE

Natural Resources Conservation Service

L'Anguille River Watershed Poinsett and Craighead Counties, AR

AGENCY: Natural Resources Conservation Service, Agriculture.

ACTION: Notice of intent to prepare an Environmental Impact Statement.

SUMMARY: Pursuant to section 102(2)(C) of the National Environmental Policy Act of 1969; the Council on Environmental Quality Guidelines (40 CFR part 1500); the Natural Resources Conservation Service, U.S. Department of Agriculture, gives notice that an environmental impact statement is being prepared for the L'Anguille River Watershed, in Poinsett and Craighead Counties, Arkansas.

FOR FURTHER INFORMATION CONTACT: Kalven L. Trice, State Conservationist, Natural Resources Conservation Service, Room 3416 Federal Building, 700 West Capitol Avenue, Little Rock, Arkansas 72201, Telephone (501) 301-3100.

SUPPLEMENTARY INFORMATION: Due to the preliminary anticipated Federal cost of this project, NRCS policy requires that an environmental impact statement be prepared.

The project concerns a plan to address groundwater declines and measures to increase water use efficiency. Alternatives under consideration to reach this objective include the construction of on-farm water storage reservoirs, underground pipelines, tailwater recovery systems, and improved irrigation management.

A draft environmental impact statement will be prepared and circulated for review by agencies and the public. The Natural Resources Conservation Service invites participation and consultation of agencies and individuals that have special expertise, legal jurisdiction, or interest in the preparation of the draft environmental impact statement. NRCS held a combined public hearing and scoping meeting with the Arkansas Soil and Water Commission on February 1, 2001 at Weiner, Arkansas to discuss this watershed. Comments were received at and following this meeting. In order to comply with the National Environmental Policy Act of 1969 (NEPA), additional comments from the public and interested agencies will be accepted until July 15, 2002. Further information on the proposed action or future public meetings may be obtained from Kalven L. Trice, State Conservationist, at the above address and telephone number.

(This activity is listed in the Catalog of Federal Domestic Assistance under No. 10.904—Watershed Protection and Flood Prevention—and is subject to the provisions of Executive Order 12372 which requires intergovernmental consultation with State and local officials.)

Dated: June 5, 2002.
Kalven L. Trice,
State Conservationist,

[FR Doc. 02-15921 Filed 6-24-02; 8:45 am]

BILLING CODE 3210-16-P